NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice. The full submission may be found at: http://www.reginfo.gov/public/do/PRAMain.

DATES: Comments regarding this information collection are best assured of having their full effect if received by August 15, 2019.

FOR FURTHER INFORMATION CONTACT: Office of Information and Regulatory Affairs of OMB, Attention: Desk Officer for National Science Foundation, 725 17th Street NW, Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556.

SUPPLEMENTARY INFORMATION: NCSES may not conduct or sponsor a collection of information unless the collection of information displays a currently valid OMB control number and the agency informs potential persons who are to respond to the collection of information that such persons are not required to respond to the collection of information unless it displays a currently valid OMB control number.

Comments regarding (a) whether the collection of information is necessary for the proper performance of the functions of NCSES, including whether the information will have practical utility; (b) the accuracy of NCSES's estimate of the burden of the proposed collection of information; (c) ways to enhance the quality, use, and clarity of the information to be collected, including through the use of automated collection techniques or other forms of information technology; (d) ways to minimize the burden of the collection of information on those who are to respond, including through the use of appropriate automated or other forms of information technology should be addressed to the points of contact in the FOR FURTHER INFORMATION CONTACT section.

Title of Collection: Higher Education Research and Development Survey.

OMB Approval Number: 3145-0100.

Summary of Collection. The Higher Education Research and Development (R&D) Survey (formerly known as the Survey of R&D Expenditures at Universities and Colleges) originated in fiscal year (FY) 1954 and has been conducted annually since FY 1972. The survey represents one facet of the higher education component of the NSF's National Center for Science and Engineering Statistics (NCSES) statistical program authorized by the America COMPETES Reauthorization Act of 2010 § 505, codified in the National Science Foundation Act of 1950 (NSF Act), as amended, at 42 U.S.C. 1862. Under paragraph “b”, NCSES is directed to

“(1) collect, acquire, analyze, report, and disseminate statistical data related to the science and engineering enterprise in the U.S. and other nations that is relevant and useful to practitioners, researchers, policymakers, and the public, including statistical data on:

(A) Research and development trends;

(B) the science and engineering workforce;

(C) U.S. competitiveness in science, engineering, technology, and research and development . . .”

Use of the information: The proposed project will continue the annual survey cycle for three years. The Higher Education R&D Survey will provide continuity of statistics on R&D expenditures by source of funding, type of R&D (basic research, applied research, or development), and field of R&D, with separate data requested on research equipment by field. Further breakdowns are collected on funds passed through to subrecipients and funds received as a subrecipient, and on R&D expenditures by field from specific federal agency sources. As of FY 2010, the survey also requests total R&D expenditures funded from foreign sources, R&D within an institution's medical school, clinical trial expenditures, R&D by type of funding mechanism (contracts vs. grants), and R&D by cost category (salaries, equipment, software, etc.). The survey also requests headcounts of principal investigators and other personnel paid from R&D funds.

Data are published in NCSES's annual publication series Higher Education Research and Development, available on the web at http://www.nsf.gov/statistics/srvyherd/.

Expected respondents: The FY 2019 Higher Education R&D Survey will be administered to approximately 650 institutions. In addition, a shorter version of the survey asking for R&D expenditures by source of funding and broad field will be sent to approximately 300 institutions spending under $1 million on R&D in their previous fiscal year. Approximately 125 institutions are also expected to respond to the population screener form sent to determine eligibility for the survey. Finally, a survey requesting R&D expenditures by source of funds, cost categories, and type of R&D will be administered to the 42 Federally Funded Research and Development Centers.

Estimate of burden: The survey is a fully automated web data collection effort and is handled primarily by administrators in university sponsored programs and accounting offices. To minimize burden, institutions are provided with an abundance of guidance and resources on the web, and are able to respond via downloadable spreadsheet if desired. Each institution's record is pre-loaded with the 2 previous years of comparable data that facilitate editing and trend checking. Response to this voluntary survey has exceeded 95 percent each year.

The average burden estimate is 54 hours for the approximately 650 institutions reporting over $1 million in R&D expenditures on the standard form, 8 hours for the approximately 300 institutions reporting less than $1 million on the short form, and 11 hours for the 42 organizations completing the FFRDC survey. Another 1 hour per institution is estimated for the approximately 125 institutions responding to the HERD population screener form. The total calculated burden across all forms is 38,087 hours.

Comments: As required by 5 CFR 1320.8(d), comments on the information collection activities as part of this study were solicited through publication of a 60-Day Notice in the Federal Register on March 18, 2019, at 84 FR9839. Three comments were received, to which we here respond. One comment came from the Bureau of Economic Analysis (BEA). They expressed general support for the HERD and FFRDC surveys and requested that they be informed of any future questionnaire modifications. NCSES is in regular contact with BEA about their data needs and sends annual data files to support their national income and product accounts (NIPAs), industry economic accounts (IEAs), and gross domestic product (GDP) by state estimates. BEA noted the specific items used from each survey.

The second comment came from the University of Washington. They indicated that the HERD survey is very useful for the research community as a key set of data. They believe the burden estimate is low, based on their experience. They provided examples of work elements that comprise their overall HERD survey effort. They noted that clear definitions in some areas, specifically reporting of institutionally-funded research, and enforced adherence to the definitions is critical for maintaining integrity and comparability across institutions. In order to minimize survey burden, they suggested NCSES minimize yearly changes to the survey content and instructions (perhaps to every 2-3 years), ensure that the survey is coordinated with federal-wide data standards, and allow for data uploads. NCSES plans to reach out to the University of Washington to further discuss the issues raised. We also plan to investigate the potential for a more robust data upload option. Currently, participants can upload their data through an MS Excel workbook questionnaire. This requires manual data entry into the workbook. The NCSES Survey of Graduate Students and Postdoctorates in S&E has a data upload option that users can populate through report automation and could be used as a model for the HERD survey.

The third comment came from the University of Wisconsin, Madison. They also highlighted the HERD survey burden and mentioned that the current Excel file upload must be manually populated. This creates the potential for errors. A file format that could be uploaded after automatically being generated by the respondent would be more efficient and reliable. This is something that NCSES will explore. They also noted that NCSES was considering a revision to the HERD survey that would permit multiple campuses within a system to report together under certain criteria. After discussions and solicitation of feedback from the Council on Government Relations and the Association of American Universities Data Exchange, as well as individual universities, NCSES has decided to keep the established criteria for reporting campus-level data in place. No changes to the guidance are forthcoming, which is also in line with the University of Wisconsin's desire. NCSES plans to reach out to the University of Washington to further discuss the issues raised.

Dated: July 10, 2019.
Suzanne H. Plimpton,
Reports Clearance Officer, National Science Foundation.

[FR Doc. 2019-15014 Filed 7-15-19; 8:45 am]

BILLING CODE 7555-01-P